NUCLEAR REGULATORY COMMISSION

Calvert Cliffs Nuclear Power Plant, Unit Nos. 1 and 2

[Docket Nos. 50-317 and 50-318]

Notice of Consideration of Issuance of Amendments to Renewed Facility Operating Licenses, Proposed No Significant Hazards Consideration Determination, and Opportunity for a Hearing

The U.S. Nuclear Regulatory Commission (the Commission) is considering issuance of amendments to Renewed Facility Operating Licenses No. DPR-53 and No. DPR-69, issued to Calvert Cliffs Nuclear Power Plant, Inc. (the licensee), for operation of the Calvert Cliffs Nuclear Power Plant, Unit Nos. 1 and 2, located in Lusby, MD.

The proposed amendments would add references to the list of approved core operating limits analytical methods in Technical Specification 5.6.5.b for Calvert Cliffs Unit Nos. 1 and 2.

Before issuance of the proposed license amendments, the Commission will have made findings required by the Atomic Energy Act of 1954, as amended (the Act), and the Commission's regulations.

The Commission has made a proposed determination that the amendment request involves no significant hazards consideration. Under the Commission's regulations in Title 10 of the Code of Federal Regulations (10 CFR), Section 50.92, this means that operation of the facility in accordance with the proposed amendment would not (1) involved a significant increase in the probability or consequences of an accident previously evaluated; or (2) create the possibility of a new or different kind of accident from any accident previously evaluated; or (3) involved a significant reduction in a margin of safety. As required by 10 CFR 50.91(a), the licensee has provided its analysis of the issue of not significant hazards consideration, which is presented below:

1. Operation of the facility in accordance with the proposed amendment[s] would not involve a significant increase in the probability or consequences of an accident previously evaluated.

The proposed amendment[s] adds references to Technical Specification 5.6.5.b. This Technical Specification lists methods that are used to determine core operating limits. These proposed additional references will allow the use of the Westinghouse nuclear physics codes and a burnable neutron absorber material at Calvert Cliffs Nuclear Power Plant.

The proposed additional references will allow the use of the Westinghouse nuclear physics codes PARAGON, PHOENIX-P, and ANC. These Westinghouse codes will be used for the design of reload cores and for safety evaluation of reload cores. Benchmarking has shown that results from these nuclear physics codes are essentially the same as those obtained from the current DIT/ROCS code systems. These codes will not increase the probability or consequences of an accident because plant systems will not be operated outside of design limits, no different equipment will be operated, and system interfaces will not change.

The use of these computer codes will not increase the consequences of an accident because Limiting Conditions for Operation (LCOs) will continue to restrict operation to within the regions that provides acceptable results, and Reactor Protective System (RPS) trip setpoints will restrict plant transients so that the consequences of accidents will be acceptable. Also, the consequences of the accidents will be calculated using NRC accepted methodologies.

These proposed additional references to Technical Specification 5.6.5.b will allow the use of the burnable neutron absorber material Zirconium Diboride. Zirconium Diboride absorbs neutrons, which reduces the thermal flux and power in the region with the Zirconium Diboride. Neutron absorption by Zirconium Diboride produces helium gas that is released into the fuel rod plenum. The effect of this helium production is taken into account in the fuel design and safety evaluations using codes reviewed and approved by the Nuclear Regulatory Commission.

Implementation of Zirconium Diboride may result in the peak most positive moderator temperature coefficient occurring after beginning of cycle. The core burnup characteristic is well understood as a result of extensive industry experience. Positive moderator temperature coefficient at the beginning of cycle is also within operational experience at Calvert Cliffs and as such, do not represent a significant change in the operation of the plant.

The proposed additional Technical Specification references are not accident initiators. The assumed accident initiators are not changed by the introduction of proposed additional Technical Specification references. Therefore, operation of the facility in accordance with the proposed amendment[s] will not involve a significant increase in the probability of an accident previously evaluated.

The use of the proposed methods will not significantly impact the fission product inventory and transport assumptions in the current licensing basis analyses. Therefore, the radiological consequences of an accident previously evaluated will not increase.

The use of the proposed methods will not increase the consequences of an accident because Limiting Conditions for Operation will continue to restrict operation to within the regions that provide acceptable results, and Reactor Protective system trip setpoints will restrict plant transients so that the consequences of accidents will not exceed the safety analysis acceptance criteria.

Therefore, the proposed Technical Specification changes do not involve a significant increase in the probability or consequences of an accident previously evaluated.

2. Operation of the facility in accordance with the proposed amendment[s] would not create the possibility of a new or different kind of accident from any accident previously evaluated.

These proposed additional references will allow the use of the Westinghouse nuclear physics codes PARAGON, PHOENIX-P, and ANC. These codes will be used to confirm the values of selected cycle-specific reactor physics parameter limits from the Technical Specifications and the Core Operating Limits Report. These codes will not change the physical plant or the modes of operation. Benchmaking has shown that results from these codes are essentially the same as those optioned from the current DIT/ROCS code package. The plant systems will not be operated outside of design limits, no different equipment will be operated, and system interfaces will not change. This code package will not create a new or different accident from those previously evaluated.

The proposed amendments also add the Zirconium Diboride burnable absorber topical report to the Technical Specification list of the approved topical reports used to generate the values in the Core Operating Limits Report. With this burnable absorber, the plant systems will not operate outside of design limits, no different equipment will be operated, and system interfaces will not change. This burnable absorber will not create a new or different accident from those previously evaluated.

Therefore, operation of the facility in accordance with the proposed amendment[s] would not create the possibility of a new or different kind of accident from any previously evaluated.

3. Operation of the facility in accordance with the proposed amendment[s] would not involve a significant reduction in a margin of safety.

Safety limits ensure that specified acceptable fuel design limits are not exceeded during steady state operation, normal operational transients, and anticipated operational occurrences. All fuel limits and design criteria will be met based on the approved methodologies defined in the topical reports. The RPS in combination with all LCOs, will continue to prevent any anticipated combination of transient conditions for Reactor Coolant System temperature, pressure, and thermal power level that would result in a violation of the safety limits.

The reload safety analyses determine the LCOs settings and RPS setpoints that establish the initial conditions and trip setpoints. These conditions and setpoints ensure that the Design Basis Events (postulated accident and anticipated operational occurrences) analyzed in the Updated Final Safety Analysis Report produced acceptable results.

The proposed amendment[s] add references to Technical Specification 5.6.5.b. This Technical Specification lists methods that are used to determine core operating limits. These proposed additional references will allow the use of the Westinghouse computer codes, PARAGON, PHOENIX-P, and ANC, and a burnable neutron absorber material Zirconium Diboride at Calvert Cliffs Nuclear Power Plant. These references were previously reviewed and approved by [the] Nuclear Regulatory Commission.

Therefore, the proposed changes will not involve a significant reduction in the margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendments until the expiration of 60 days after the date of publication of this notice. The Commission may issue the license amendments before expiration of the 60-day period provided that its final determination is that the amendments involve no significant hazards consideration. In addition, the Commission may issue the amendments prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, Public File Area O1 F21, 11555 Rockville Pike (first floor), Rockville, Maryland.

The filing of requests for hearing and petitions for leave to intervene is discussed below.

Within 60 days after the date of publication of this notice, the licensee may file a request for a hearing with respect to issuance of the amendments to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceedings, and how that interest may be affected by the results of the proceeding. The petition should specifically explain the reasons why intervention should be permitted with particular reference to the following general requirements: (1) The name, address and telephone number of the requestor or petitioner; (2) the nature of the requestor's/petition's right under the Act to be made a party to the proceeding; (3) the nature and extent of the requestor's/petitioner's property, financial, or other interest in the proceedings; and (4) the possible effect of any decision or order which may be entered in the proceedings on the requestor/petitioner's interest. The petition must also identify the specific contentions which the petitioner/requestor seeks to have litigated at the proceedings.

Each contention must consist of a specific statement of the issue of law or fact to be raised or controverted. In addition, the petitioner/requestor shall provide a brief explanation of the basis for the contention and a concise statement of the alleged facts or expert opinion which support the contention and on which the petitioner intends to rely in proving the contention at the hearing. The petitioner/requestor must also provide references to those specific sources and documents of which the petitioner is aware and on which the petitioner intends to rely to establish those facts or expert opinion. The petition must include sufficient information to show that a genuine dispute exists with the applicant on a material issue of law or fact. Contentions shall be limited to matters within the scope of the amendments under consideration. The contention must be one which, if prove, would entitle the petitioner to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendments and make it immediately effective, notwithstanding the request for a hearing. Any hearing held would take place after issuance of the amendments. If the final determination is that the amendment request involves a significant hazards consideration, any hearing held would take place before the issuance of any amendments.

Nontimely requests and/or petitions and contentions will not be entertained absent a determination by the Commission or the presiding officer of the Atomic Safety and Licensing Board that the petition, request and/or the contentions should be granted based on a balancing of the factors specified in 10 CFR 2.309(a)(1)(i)-(viii).

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) e-mail addressed to the Office of the Secretary, U.S. Nuclear Regulatory Commission, HEARINGDOCKET@NRC.GOV; or (4) facsimile transmission addressed to the Office of the Secretary, U.S. Nuclear Regulatory Commission, Washington, DC, Attention: Rulemakings and Adjudications Staff at (301) 415-1101, verification number is (301) 415-1966. A copy of the request for hearing an petition for leave to intervene should also be sent to the Office of the General Counsel, U.S. Nuclear Regulatory Commission, Washington, DC 20555-0001, and it is requested that copies be transmitted either by means of facsimile transmission to 301-415-3725 or by e-mail to OGCMailCenter@nrc.gov. A copy of the request for hearing an petition for leave to intervene should also be sent to James M. Petro, Jr., Esquire, Counsel, Constellation Energy Group, Inc., 750 East Pratt Street, 5th floor, Baltimore, MD 21202, attorney for the licensee.

For further details with request to this action, see the application for amendment dated July 15, 2004, which is available for public inspection at the Commission's PDR, located at One White Flint North, File Public Area O1 F21, 11555 Rockville Pike (first floor), Rockville, Maryland. Publicly available records will be accessible from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov. (Note: Public access to ADAMS has been temporarily suspended so that security reviews of publicly available documents may be performed and potentially sensitive information removed. Please check the NRC Web site for updates of the resumption of ADAMS access.)

Dated at Rockville, Maryland, this 21st day of December, 2004.
For the Nuclear Regulatory Commission,
Richard V. Guzman,
Project Manager, Section 1, Project Directorate 1, Division of Licensing Project Management, Office of Nuclear Reactor Regulation.

[FR Doc. 04-28457 Filed 12-28-04; 8:45 am]

BILLING CODE 7590-01-M